DEPARTMENT OF DEFENSE

Office of the Secretary

Department of Defense Military Family Readiness Council; Notice of Federal Advisory Committee Meeting; Cancellation

AGENCY: Under Secretary of Defense for Personnel and Readiness, Department of Defense (DoD).

ACTION: Notice of Federal Advisory Committee meeting; cancellation.

SUMMARY: On December 2, 2019, the DoD published a notice that announced the next meeting of the Department of Defense Military Family Readiness Council, which was to take place on Tuesday, December 17, 2019 from 10:00 a.m. to 12:00 p.m. DoD is publishing this notice to announce that this Federal Advisory Committee meeting has been cancelled and will be re-scheduled at a later date.

FOR FURTHER INFORMATION CONTACT: William Story, (571) 372-5345 (Voice), (571) 372-0884 (Facsimile), OSD Pentagon OUSD P-R Mailbox Family Readiness Council, osd.pentagon.ousd-p-r.mbx.family-readiness-council@mail.mil (Email). Mailing address is: Office of the Deputy Assistant Secretary of Defense (Military Community & Family Policy), Office of Military Family Readiness Policy, 4800 Mark Center Drive, Alexandria, VA 22350-2300, Room 3G15. Website: https://www.militaryonesource.mil/leaders-service-providers/military-family-readiness-council.

SUPPLEMENTARY INFORMATION: Due to circumstances beyond the control of the Department of Defense and the Designated Federal Officer, the Department of Defense Military Family Readiness Council was unable to provide public notification required by 41 CFR 102-3.150(a) concerning the cancellation of the previously noticed meeting for December 17, 2019. Accordingly, the Advisory Committee Management Officer for the Department of Defense, pursuant to 41 CFR 102-3.150(b), waives the 15-calendar day notification requirement.

On December 2, 2019 (84 FR 65974), the DoD published a notice that announced a December 17, 2019 meeting of the Department of Defense Military Family Readiness Council. DoD is publishing this notice to announce that this Federal Advisory Committee meeting has been cancelled and will be re-scheduled at a later date. The rescheduled meeting will be announced in the Federal Register.

Dated: December 16, 2019.
Aaron T. Siegel,
Alternate OSD Federal Register Liaison Officer, Department of Defense.

[FR Doc. 2019-27441 Filed 12-19-19; 8:45 am]

BILLING CODE 5001-06-P